RAILROAD RETIREMENT BOARD

Agency Forms Submitted for OMB Review

SUMMARY: In accordance with the Paperwork Reduction Act of 1995. (44 U.S.C. Chapter 35), the Railroad Retirement Board (RRB) has submitted the following proposal(s) for the collection of information to the Office of Management and Budget for review and approval.

Summary of Proposals

(1) Collection title: Employer's Quarterly Report of Contributions Under the RUIA.

(2) Form(s) submitted: DC-1.

(3) OMB Number: 3220-0012.

(4) Expiration date of current OMB clearance: 3/31/2000.

(5) Type of request: Extension of a currently approved collection.

(6) Respondents: Business or other for-profit.

(7) Estimated annual number of respondents: 550

(8) Total annual responses: 2,200.

(9) Total annual reporting hours: 917.

(10) Collection description: Railroad employers are required to make contributions to the Railroad Unemployment Insurance fund quarterly or annually equal to a percentage of the creditable compensation paid to each employee. The information furnished on the report accompanying the remittance is used to determine correctness of the amount paid.

FOR FURTHER INFORMATION CONTACT: Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Wendy Taylor (202-395-7316), Office of Management and Budget, Room 10230, New Executive Office Building, Washington, DC 20503.

Chuck Mierzwa,
Clearance Officer.

[FR Doc. 00-1202 Filed 1-18-00; 8:45 am]

BILLING CODE 7905-01-M